SURFACE TRANSPORTATION BOARD

[Docket No. FD 36715]

The New York, Susquehanna and Western Railway Corporation—Acquisition and Operation Exemption—Onondaga County Industrial Development Agency

The New York, Susquehanna and Western Railway Corporation (NYS&W), a Class III rail carrier, has filed a verified notice of exemption under 49 CFR 1150.41 to acquire and operate approximately 10 miles of rail line, known as the Jamesville Cluster, from the Onondaga County Industrial Development Agency (OCIDA), in Onondaga County, N.Y. The rail line consists of the following segments: (1) the Jamesville Industrial Track, extending from approximately milepost 264.3 to approximately milepost 272.0; (2) the Lake Industrial Track, extending from approximately milepost 272.0 to approximately milepost 273.5 (including the Saltland Spur); and (3) Track 7 of the Chicago Line, extending from approximately milepost 292.0 to approximately milepost 292.8 (known to NYS&W as mileposts 274.0 to 274.8) (collectively, the Line). According to the verified notice, NYS&W is the current freight rail operator on the Line, having received operating authority for local and overhead trackage rights in 1995 by assignment from Consolidated Rail Corporation (Conrail). See N.Y., Susquehanna & W. Ry.—Trackage Rights Exemption—Onondaga Cnty. Indus. Dev. Agency, FD 32772 (ICC served Sept. 20, 1995).

According to NYS&W, in addition to the assignment of local and overhead trackage rights, Conrail also assigned to NYS&W Conrail's right to re-acquire the Line from OCIDA. The verified notice states that NYS&W is now exercising that right.

NYS&W certifies that the proposed acquisition of the Line does not involve any interchange commitments. NYS&W further certifies that its projected revenues as a result of this transaction will not result in the creation of a Class II or Class I rail carrier. Pursuant to 49 CFR 1150.42(e), if a carrier's projected annual revenues will exceed $5 million, it must, at least 60 days before the exemption becomes effective, post a notice of its intent to undertake the proposed transaction at the workplace of the employees on the affected lines, serve a copy of the notice on the national offices of the labor unions with employees on the affected lines, and certify to the Board that it has done so. However, NYS&W has filed a request for waiver of the 60-day advance labor notice requirements to allow the transaction to become effective 30 days after NYS&W's notice of exemption was filed. NYS&W's waiver request will be addressed in a separate decision. The Board will establish the effective date of the exemption in its separate decision on the waiver request.

If the verified notice contains false or misleading information, the exemption is void ab initio. Petitions to revoke the exemption under 49 U.S.C. 10502(d) may be filed at any time. The filing of a petition to revoke will not automatically stay the effectiveness of the exemption. Petitions for stay must be filed no later than August 30, 2023.

All pleadings referring to Docket No. FD 36715, should be filed with the Surface Transportation Board either via e-filing on the Board's website or in writing addressed to 395 E Street SW, Washington, DC 20423-0001. In addition, one copy of each pleading must be served on NYS&W's representative, Justin Marks, Clark Hill, 1001 Pennsylvania Ave. NW, Suite 1300 South, Washington, DC 20004.

According to NYS&W, this action is categorically excluded from environmental review under 49 CFR 1105.6(c) and from historic reporting requirements under 49 CFR 1105.8(b).

Board decisions and notices are available at www.stb.gov.

Decided: August 18, 2023.
By the Board, Mai T. Dinh, Director, Office of Proceedings.
Jeffrey Herzig,
Clearance Clerk.

[FR Doc. 2023-18146 Filed 8-22-23; 8:45 am]

BILLING CODE 4915-01-P